FEDERAL MARITIME COMMISSION

Sunshine Act Meetings

TIME AND DATE: March 16, 2022; 10:00 a.m.

PLACE: This meeting will be held by video-conference only.

STATUS: Part of the meeting will be open to the public and available to view, streamed live, accessible from www.fmc.gov. The rest of the meeting will be closed to the public.

MATTERS TO BE CONSIDERED:

Portions Open to the Public:

1. Commissioner Sola, Update on Fact Finding 30: COVID-19 Impact on Cruise Industry

2. Staff Briefing on Ongoing Enforcement Activities

Portions Closed to the Public:

1. Staff Briefing on Ongoing Enforcement Activities

2. Area Representative Regional Activity Updates

CONTACT PERSON FOR MORE INFORMATION: William Cody, Secretary, (202) 523-5725.

William Cody,
Secretary.

[FR Doc. 2022-05261 Filed 3-9-22; 11:15 am]

BILLING CODE 6730-02-P